COMMITTEE FOR PURCHASE FROM PEOPLE WHO ARE BLIND OR SEVERELY DISABLED

Procurement List; Additions and Deletions

AGENCY: Committee for Purchase From People Who Are Blind or Severely Disabled.

ACTION: Additions to and deletions from the Procurement list.

SUMMARY: This action adds to the Procurement List services to be furnished by nonprofit agencies employing persons who are blind or have other severe disabilities, and deletes from the Procurement List products and services previously furnished by such agencies.

DATES: Effective Date: July 13, 2009.

ADDRESSES: Committee for Purchase From People Who Are Blind or Severely Disabled, Jefferson Plaza 2, Suite 10800, 1421 Jefferson Davis Highway, Arlington, Virginia 22202-3259.

FOR FURTHER INFORMATION CONTACT: Lou Bartalot, Telephone: (703) 603-7740, Fax: (703) 603-0655, or e-mail CMTEFedReg@AbilityOne.gov.

SUPPLEMENTARY INFORMATION:

Additions

On 4/10/2009, the Committee for Purchase From People Who Are Blind or Severely Disabled published notice (74 FR 68, pgs. 16367-16368) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Mailroom Operation: Von Braun Buildings 2 and 3, 5222 Martin Road, Redstone Arsenal, AL; MDA, Federal Office Building 2, 7100 Defense Pentagon, Washington, DC; Dahlgren NSWC, 17211 Avenue D, Dahlgren, VA.

NPA: Huntsville Rehabilitation Foundation, Huntsville, AL.

Contracting Activity: Missile Defense Agency (MDA), Redstone Arsenal, AL.

Service Type/Location: Latrine Services, Rental and Maintenance: 62 CONS/CC, 100 Main St., McChord Air Force Base, WA.

NPA: Skookum Educational Programs, Bremerton, WA.

Contracting Activity: Dept Of The Army, XR W6BA ACA Ft Lewis, WA.

Service Type/Location: Laundry Services: Marine Corps Logistics Base, 814 Radford Blvd., Albany, GA.

NPA: Wiregrass Rehabilitation Center, Inc., Dothan, AL.

Contracting Activity: Dept Of The Navy, Commander, Albany, GA.

Deletions

On 3/27 and 4/10/2009, the Committee for Purchase From People Who Are Blind or Severely Disabled published notices (74 FR 58, pgs. 13413-13414 and 74 FR 68, pgs. 16367-16369, respectively) of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

PCU, Level 1 Boxer

NSN: 8420-01-542-5494—Size S;

NSN: 8420-01-542-5495—Size M;

NSN: 8420-01-542-5496—Size L;

NSN: 8420-01-542-5497—Size LL;

NSN: 8420-01-542-5499—Size XL;

NSN: 8420-01-542-5500—Size XLL;

NSN: 8420-01-542-5491—Size XS;

NSN: 8420-01-543-7068—Size ML;

NSN: 8420-01-542-5478—Size XXL;

NSN: 8420-01-542-5490—Size XXLL;

NSN: 8420-01-542-5485—Size XXXL;

NSN: 8420-01-542-5488—Size XXXLL.

NPA: Southeastern Kentucky Rehabilitation Industries, Inc., Corbin, KY.

Contracting Activity: XR W2DF RDECOM ACQ CTR NATICK, Natick, MA & Washington, DC.

Services

Service Type/Location: Custodial Services: VA Primary Care Center, North Pinellas Park, St. Petersburg, Marion City, Naples & Sarasota, Multiple Locations, FL.

NPA: Abilities, Inc. of Florida, Clearwater, FL.

Contracting Activity: Department Of Veterans Affairs, St. Petersburg, FL.

Service Type/Location: Shelf Stocking, Custodial & Warehousing: Key West Naval Air Station, Key West, FL.

NPA: Unknown (No Providing Agency).

Contracting Activity: Defense Commissary Agency (DECA).

Lou Bartalot,
Director, Compliance.

[FR Doc. E9-13886 Filed 6-11-09; 8:45 am]

BILLING CODE 6353-01-P